NUCLEAR REGULATORY COMMISSION

Biweekly Notice; Applications and Amendments to Facility Operating Licenses Involving No Significant Hazards Considerations

I. Background

Pursuant to section 189a. (2) of the Atomic Energy Act of 1954, as amended (the Act), the U.S. Nuclear Regulatory Commission (the Commission or NRC staff) is publishing this regular biweekly notice. The Act requires the Commission publish notice of any amendments issued, or proposed to be issued and grants the Commission the authority to issue and make immediately effective any amendment to an operating license upon a determination by the Commission that such amendment involves no significant hazards consideration, notwithstanding the pendency before the Commission of a request for a hearing from any person.

This biweekly notice includes all notices of amendments issued, or proposed to be issued from December 22, 2006 to January 4, 2007. The last biweekly notice was published on January 3, 2007 (72 FR 147).

Notice of Consideration of Issuance of Amendments to Facility Operating Licenses, Proposed No Significant Hazards Consideration Determination, and Opportunity for a Hearing

The Commission has made a proposed determination that the following amendment requests involve no significant hazards consideration. Under the Commission's regulations in 10 CFR 50.92, this means that operation of the facility in accordance with the proposed amendment would not (1) involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination. Within 60 days after the date of publication of this notice, the licensee may file a request for a hearing with respect to issuance of the amendment to the subject facility operating license and any person whose interest may be affected by this proceeding and who wishes to participate as a party in the proceeding must file a written request for a hearing and a petition for leave to intervene.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Written comments may be submitted by mail to the Chief, Rulemaking, Directives and Editing Branch, Division of Administrative Services, Office of Administration, U.S. Nuclear Regulatory Commission, Washington, DC 20555-0001, and should cite the publication date and page number of this Federal Register notice. Written comments may also be delivered to Room 6D22, Two White Flint North, 11545 Rockville Pike, Rockville, Maryland, from 7:30 a.m. to 4:15 p.m. Federal workdays. Copies of written comments received may be examined at the Commission's Public Document Room (PDR), located at One White Flint North, Public File Area O1F21, 11555 Rockville Pike (first floor), Rockville, Maryland. The filing of requests for a hearing and petitions for leave to intervene is discussed below.

Within 60 days after the date of publication of this notice, the licensee may file a request for a hearing with respect to issuance of the amendment to the subject facility operating license and any person whose interest may be affected by this proceeding and who wishes to participate as a party in the proceeding must file a written request for a hearing and a petition for leave to intervene. Requests for a hearing and a petition for leave to intervene shall be filed in accordance with the Commission's “Rules of Practice for Domestic Licensing Proceedings” in 10 CFR Part 2. Interested persons should consult a current copy of 10 CFR 2.309, which is available at the Commission's PDR, located at One White Flint North, Public File Area 01F21, 11555 Rockville Pike (first floor), Rockville, Maryland. Publicly available records will be accessible from the Agencywide Documents Access and Management System's (ADAMS) Public Electronic Reading Room on the Internet at the NRC Web site, http://www.nrc.gov/reading-rm/doc-collections/cfr/. If a request for a hearing or petition for leave to intervene is filed within 60 days, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also set forth the specific contentions which the petitioner/requestor seeks to have litigated at the proceeding.

Each contention must consist of a specific statement of the issue of law or fact to be raised or controverted. In addition, the petitioner/requestor shall provide a brief explanation of the bases for the contention and a concise statement of the alleged facts or expert opinion which support the contention and on which the petitioner/requestor intends to rely in proving the contention at the hearing. The petitioner/requestor must also provide references to those specific sources and documents of which the petitioner is aware and on which the petitioner/requestor intends to rely to establish those facts or expert opinion. The petition must include sufficient information to show that a genuine dispute exists with the applicant on a material issue of law or fact. Contentions shall be limited to matters within the scope of the amendment under consideration. The contention must be one which, if proven, would entitle the petitioner/requestor to relief. A petitioner/requestor who fails to satisfy these requirements with respect to at least one contention will not be permitted to participate as a party.

Those permitted to intervene become parties to the proceeding, subject to any limitations in the order granting leave to intervene, and have the opportunity to participate fully in the conduct of the hearing.

If a hearing is requested, and the Commission has not made a final determination on the issue of no significant hazards consideration, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, any hearing held would take place before the issuance of any amendment.

A request for a hearing or a petition for leave to intervene must be filed by: (1) First class mail addressed to the Office of the Secretary of the Commission, U.S. Nuclear Regulatory Commission, Washington, DC 20555-0001, Attention: Rulemaking and Adjudications Staff; (2) courier, express mail, and expedited delivery services: Office of the Secretary, Sixteenth Floor, One White Flint North, 11555 Rockville Pike, Rockville, Maryland, 20852, Attention: Rulemaking and Adjudications Staff; (3) E-mail addressed to the Office of the Secretary, U.S. Nuclear Regulatory Commission, HearingDocket@nrc.gov; or (4) facsimile transmission addressed to the Office of the Secretary, U.S. Nuclear Regulatory Commission, Washington, DC, Attention: Rulemakings and Adjudications Staff at (301) 415-1101, verification number is (301) 415-1966. A copy of the request for hearing and petition for leave to intervene should also be sent to the Office of the General Counsel, U.S. Nuclear Regulatory Commission, Washington, DC 20555-0001, and it is requested that copies be transmitted either by means of facsimile transmission to (301) 415-3725 or by e-mail to OGCMailCenter@nrc.gov. A copy of the request for hearing and petition for leave to intervene should also be sent to the attorney for the licensee.

Nontimely requests and/or petitions and contentions will not be entertained absent a determination by the Commission or the presiding officer of the Atomic Safety and Licensing Board that the petition, request and/or the contentions should be granted based on a balancing of the factors specified in 10 CFR 2.309(a)(1)(i)-(viii).

For further details with respect to this action, see the application for amendment which is available for public inspection at the Commission's PDR, located at One White Flint North, Public File Area 01F21, 11555 Rockville Pike (first floor), Rockville, Maryland. Publicly available records will be accessible from the ADAMS Public Electronic Reading Room on the Internet at the NRC Web site, http://www.nrc.gov/reading-rm/adams.html. If you do not have access to ADAMS or if there are problems in accessing the documents located in ADAMS, contact the PDR Reference staff at 1 (800) 397-4209, (301) 415-4737 or by e-mail to pdr@nrc.gov.

Nuclear Management Company, LLC, Docket Nos. 50-266 and 50-301, Point Beach Nuclear Plant, Units 1 and 2, Town of Two Creeks, Manitowoc County, Wisconsin.

Date of amendment request: December 14, 2006.

Description of amendment request: The proposed amendments revise the technical specifications to add the FERRET Code as an approved methodology for determining reactor coolant system pressure and temperature limits.

Basis for proposed no significant hazards consideration determination: As required by 10 CFR 50.91(a), the licensee has provided its analysis of the issue of no significant hazards consideration which is presented below:

1. Operation of the Point Beach Nuclear Plant in accordance with the proposed amendments does not result in a significant increase in the probability or consequences of any accident previously evaluated.

The proposed change revises Technical Specification (TS) 5.6.5, “Reactor Coolant System (RCS) Pressure and Temperature Limits Report (PTLR)”, to add the FERRET Code as an approved methodology for determining RCS pressure and temperature limits.

The proposed change does not adversely affect accident initiators or precursors nor alter the design assumptions, conditions, or the manner in which the plant is operated and maintained. The proposed change does not alter or prevent the ability of structures, systems, and components from performing their intended function to mitigate the consequences of an initiating event within the assumed acceptance limits. Therefore, the proposed change does not significantly increase the probability of any accident previously evaluated.

There will be no change to normal plant operating parameters, engineered safety feature actuation setpoints, accident mitigation capabilities, or accident analysis assumptions or inputs. The proposed change does not affect the source term, containment isolation, or radiological release assumptions used in evaluating the radiological consequences of an accident previously evaluated. Further, the proposed change does not increase the types or amounts of radioactive effluent that may be released offsite, nor significantly increase individual or cumulative occupational/public radiation exposures.

Therefore, the probability or consequences of any accident previously evaluated will not be significantly increased as a result of the proposed change.

2. Operation of the Point Beach Nuclear Plant in accordance with the proposed amendments does not result in a new or different kind of accident from any accident previously evaluated.

The proposed change incorporates the FERRET Code as an approved methodology for determining RCS pressure and temperature limits. The change does not impose any new or different requirements or eliminate any existing requirements. The proposed change is consistent with the safety analysis assumptions and current plant operating practice.

No new accident scenarios, transient precursors, failure mechanisms, or limiting single failures are introduced as a result of the proposed change. Equipment important to safety will continue to operate as designed. The change does not result in any event previously deemed incredible being made credible. The change does not result in adverse conditions or result in any increase in the challenges to safety systems. Therefore, the proposed change does not create the possibility of a new or different type of accident from any accident previously evaluated.

3. Operation of the Point Beach Nuclear Plant in accordance with the proposed amendments does not result in a significant reduction in a margin of safety.

The proposed change incorporates the FERRET Code as an approved methodology for determining RCS pressure and temperature limits. The proposed change does not alter safety limits, limiting safety system settings, or limiting conditions for operation. The setpoints at which protective actions are initiated are not altered by the proposed change.

There are no new or significant changes to the initial conditions contributing to accident severity or consequences. The proposed amendment will not otherwise affect the plant protective boundaries, will not cause a release of fission products to the public, nor will it degrade the performance of any other structures, systems or components (SSCs) important to safety. Therefore, the requested change will not result in a significant reduction in the margin of safety.

The NRC staff has reviewed the licensee's analysis and, based on this review, it appears that the three standards of 10 CFR 50.92(c) are satisfied. Therefore, the NRC staff proposes to determine that the amendment request involves no significant hazards consideration.

Attorney for licensee: Jonathan Rogoff, Esquire, Vice President, Counsel & Secretary, Nuclear Management Company, LLC, 700 First Street, Hudson, WI 54016.

NRC Acting Branch Chief: L. Raghavan.

Union Electric Company, Docket No. 50-483, Callaway Plant, Unit 1, Callaway County, Missouri.

Date of amendment request: August 17, 2006.

Description of amendment request: The amendment would revise Technical Specifications (TSs) 2.1.1, “Reactor Core SLs [Safety Limits],” 3.3.1, “Reactor Trip System (RTS) Instrumentation,” 3.4.1, RCS [reactor coolant system] Pressure, Temperature, and Flow Departure from Nucleate Boiling (DNB) Limits,” and 5.6.5, “Core Operating Limits Report (COLR).” The changes would (1) relocate certain operating cycle-specific parameters limits, including TS Figure 2.1.1-1, “Reactor Core Safety Limits,” from the above TSs to the plant COLR, (2) add two new safety limits for departure from nucleate boiling ratio (DNBR) and peak fuel centerline temperature, and (3) add several topical reports to TS 5.6.5 and have the reports in TS 5.6.5 cited by only the report title and number. The TSs would state that the limits to be met or the values of denoted parameters are specified in the COLR. The existing TS 5.6.5 has seven core operating limits that are listed in the specification, and this would be expanded to include the three additional limits from TSs 2.1.1, 3.3.1, and 3.4.1. The changes are consistent with NRC-approved Standard Technical Task Force (TSTF) Traveler TSTF-339, Revision 2, “Relocate TS Parameters to COLR,” and TSTF-363, Revision 0, “Relocate Topical Report References in ITS [Improved Technical Specification] 5.6.5, COLR.”

Basis for proposed no significant hazards consideration determination: As required by 10 CFR 50.91(a), the licensee has provided its analysis of the issue of no significant hazards consideration, which is presented below:

1. [Do] the proposed change[s] involve a significant increase in the probability or consequences of an accident previously evaluated?

Response: No.

Overall protection system performance will remain within the bounds of the previously performed accident analyses since there are no design [or equipment] changes. The design of the reactor trip system (RTS) instrumentation and engineered safety feature actuation system (ESFAS) instrumentation will be unaffected and these protection systems will continue to function in a manner consistent with the plant design basis. All design, material, and construction standards that were applicable prior to this amendment request will be maintained.

The proposed changes will not adversely affect accident initiators or precursors nor alter the design assumptions, conditions, and configuration of the facility or the manner in which the plant is operated and maintained. The proposed changes will not alter or prevent the ability of structures, systems, and components (SSCs) from performing their intended [safety] functions to mitigate the consequences of an initiating event within the assumed acceptance limits.

The proposed changes are programmatic and administrative in nature. These changes do not physically alter safety-related systems nor affect the way in which safety-related systems perform their functions. Additional Safety Limits on the DNB [departure from nucleate boiling] design basis and peak fuel centerline temperature are being imposed in TS 2.1.1, “Reactor Core Safety Limits,” and the Reactor Core Safety Limits figure is being relocated to the COLR. The additional Safety Limits are consistent with the values stated in the FSAR [Final Safety Analysis Report for the Callaway Plant]. The proposed changes do not, by themselves, alter any of the relocated limits. The removal of the cycle-specific parameter limits from the TS[s] does not eliminate existing requirements to comply with the parameter limits. [The value of the limits is relocated to the COLR, but the requirement to follow that limit remains in the TSs by the reference to the limits or values in the COLR, and the values of the limits are not being changed by this amendment.] TS 5.6.5.b continues to ensure that the analytical methods used to determine the core operating limits meet NRC reviewed and approved methodologies [by the requirement stated in TS 5.6.5.b that “the analytical methods used to determine the core operating limits shall be those previously reviewed and approved by the NRC”]. TS 5.6.5.c, [which is] unchanged by this application, will continue to ensure that applicable limits of the safety analyses are met [by continuing to state this as a requirement in the TSs].

The proposed changes to reference only the Topical Report number and title do not alter the use of the analytical methods used to determine core operating limits that have been reviewed and approved by the NRC. [This remains a requirement stated in TS 5.6.5.b.] This [proposed] method of referencing Topical Reports would allow the use of current [NRC-approved] Topical Reports to support [the] limits in the COLR without [the licensee] having to submit an amendment to the operating license. Implementation of revisions to Topical Reports for Callaway Plant applications would still be reviewed in accordance with 10 CFR 50.59(c)(2)(viii) and, where required, receive prior NRC review and approval. [The criteria in the regulation governing changes to the plant without NRC approval, 10 CFR 50.59, would have to be met before the licensee could use a later version of an NRC-approved Topical Report that is listed in TS 5.6.5.b.]

The cycle-specific parameter limits being transferred from the TS[s] to the COLR will continue to be controlled under existing programs and procedures. The FSAR accident analyses will continue to be examined with respect to future changes in the cycle-specific parameters using NRC reviewed and approved reload design methodologies [(i.e., NRC reviewed and approved Topical Reports)], ensuring that the evaluation of new reload designs under 10 CFR 50.59 is bounded by previously accepted analyses.

All accident analysis acceptance criteria will continue to be met with the proposed changes. The proposed changes will not affect the source term, containment isolation, or radiological release assumptions used in evaluating the radiological consequences of an accident previously evaluated. The proposed changes will not alter any assumptions or change any mitigation actions in the radiological consequence evaluations in the FSAR. The applicable radiological dose acceptance criteria will continue to be met.

[The proposed changes do not alter any requirements in the TSs, but they do add two new safety limits to TS 2.2.1. The changes also relocate certain limits or parameter values from the TSs to the COLR; however, these limits and values are still required to be met and be determined from NRC-approved methodologies that apply to the Callaway Plant. Therefore, there are no changes to accident analyses previously evaluated and described in the FSAR.]

Therefore, the proposed changes do not involve a significant increase in the probability or consequences of an accident previously evaluated.

2. [Do] the proposed change[s] create the possibility of a new or different kind of accident from any accident previously evaluated?

Response: No.

There are no proposed design changes nor are there any changes in the method by which any safety-related plant SSC performs its safety function. Th[ese] change[s] will not affect the normal method of plant operation or change any operating parameters. No equipment performance requirements will be affected. The proposed changes will not alter any assumptions made in the safety analyses.

No new accident scenarios, transient precursors, failure mechanisms, or limiting single failures will be introduced as a result of this amendment. There will be no adverse effect or challenges imposed on any safety-related system as a result of this amendment. [No equipment is being added to the plant by the amendment.]

The proposed amendment will not alter the design or performance of the 7300 Process Protection System, Nuclear Instrumentation System, or Solid State Protection System used in the plant protection systems.

Relocation of cycle-specific parameter limits has no influence on, nor does it contribute in any way to, the possibility of a new or different kind of accident. The relocated cycle-specific parameter limits will continue to be calculated using the NRC reviewed and approved methodologies. The proposed changes do not alter assumptions made in the safety analyses. Operation within the core operating limits will continue to be observed.

Therefore, the proposed changes do not create the possibility of a new or different accident from any accident previously evaluated.

3. [Do] the proposed change[s] involve a significant reduction in a margin of safety?

Response: No.

There will be no effect on those plant systems necessary to assure the accomplishment of protection functions. There will be no impacts on the overpower limit, departure from nucleate boiling ratio (DNBR) limits, heat flux hot channel factor (FQ), nuclear enthalpy rise hot channel factor (FΔH), loss of coolant accident peak cladding temperature (LOCA PCT), peak local power density, or any other margin of safety. The applicable radiological dose consequence acceptance criteria will continue to be met.

The proposed changes do not eliminate any surveillances or alter the frequency of surveillances [(i.e., the surveillance test intervals)] required by the Technical Specifications. The nominal RTS and ESFAS trip setpoints will remain unchanged. None of the acceptance criteria for any accident analysis will be changed.

The development of cycle-specific parameter limits for future reload designs will continue to conform to NRC reviewed and approved methodologies, and will be performed pursuant to 10 CFR 50.59 to assure that plant operation [is] within [these] cycle-specific parameter limits.

The proposed changes will have no impact on the radiological consequences of a design basis accident.

[The proposed changes do not alter any requirements in the TSs. They relocate certain limits or parameter values from the TSs to the COLR; however, these limits and values are still required to be met and be determined from NRC-approved methodologies that apply to the Callaway Plant.]

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: John O'Neill, Esq., Pillsbury Winthrop Shaw Pittman LLP, 2300 N Street, NW., Washington, DC 20037.

NRC Branch Chief: David Terao.

Notice of Issuance of Amendments to Facility Operating Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

Notice of Consideration of Issuance of Amendment to Facility Operating License, Proposed No Significant Hazards Consideration Determination, and Opportunity for A Hearing in connection with these actions was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.12(b) and has made a determination based on that assessment, it is so indicated.

For further details with respect to the action see (1) the applications for amendment, (2) the amendment, and (3) the Commission's related letter, Safety Evaluation and/or Environmental Assessment as indicated. All of these items are available for public inspection at the Commission's Public Document Room (PDR), located at One White Flint North, Public File Area 01F21, 11555 Rockville Pike (first floor), Rockville, Maryland. Publicly available records will be accessible from the Agencywide Documents Access and Management Systems (ADAMS) Public Electronic Reading Room on the internet at the NRC Web site, http://www.nrc.gov/reading-rm/adams.html. If you do not have access to ADAMS or if there are problems in accessing the documents located in ADAMS, contact the PDR Reference staff at 1 (800) 397-4209, (301) 415-4737 or by e-mail to pdr@nrc.gov.

Dominion Energy Kewaunee, Inc. Docket No. 50-305, Kewaunee Power Station, Kewaunee County, Wisconsin.

Date of application for amendment: September 25, 2006.

Brief description of amendment: The amendment revises Technical Specification (TS) 4.2.a, “ASME [American Society of Mechanical Engineers] Code Class 1, 2, 3, and MC Components and Supports.” The revised TS 4.2.a.2, references the ASME Code for Operation and Maintenance of Nuclear Power Plants.

Date of issuance: December 14, 2006.

Effective date: As of the date of issuance and shall be implemented within 60 days.

Amendment No.: 189

Facility Operating License No. DPR-43: Amendment revised the Technical Specifications.

Date of initial notice in Federal Register: October 24, 2006 (71 FR 62308).

The Commission's related evaluation of the amendment is contained in a Safety Evaluation dated December 14, 2006.

No significant hazards consideration comments received: No.

DukePower Company LLC, Docket Nos. 50-369 and 50-370, McGuire Nuclear Station, Units 1 and 2, Mecklenburg County, North Carolina.

Date of application for amendments: December 20, 2005, as supplemented May 4 and August 31, 2006.

Brief description of amendments: The amendments revised the McGuire 1 and 2 licensing basis to adopt a selective implementation of the alternative source term radiological analysis methodology. The amendments also revised Technical Specification 3.9.4, “Containment Penetrations.”

Date of issuance: December 22, 2006.

Effective date: As of the date of issuance and shall be implemented within 30 days from the date of issuance.

Amendment Nos.: 236, 218

Renewed Facility Operating License Nos. NPF-9 and NPF-17: Amendments revised the licenses and the technical specifications.

Date of initial notice in Federal Register: August 24, 2006 (71 FR 50105)

The supplements dated May 4 and August 31, 2006, provided additional information that clarified the application, did not expand the scope of the application as originally noticed, and did not change the staff's original proposed no significant hazards consideration determination.

The Commission's related evaluation of the amendments is contained in a Safety Evaluation dated.

No significant hazards consideration comments received: No.

Exelon Generation Company, LLC, Docket Nos. 50-373 and 50-374, LaSalle County Station, Units 1 and 2, LaSalle County, Illinois.

Date of application for amendments: December 9, 2004, as supplemented by letters dated August 16, August 24, September 13, and October 12, 2006.

Brief description of amendments: The amendments adopt Technical Specification Task Force (TSTF) Standard Technical Specification (STS) Change Traveler 360 (TSTF-360), Revision 1, “DC Electric Rewrite.” The amendment revised Technical Specification (TS) Section 3.8.4, “DC Sources-Operating,” TS 3.8.5, “DC Sources-Shutdown,” TS 3.8.6, “Battery Cell Parameters,” and adds a new TS Section 5.5.14, “Battery Monitoring and Maintenance Program.”

Date of issuance: December 19, 2006.

Effective date: As of the date of issuance and shall be implemented within 60 days.

Amendment Nos.: 179/165.

Facility Operating License Nos. NPF-11 and NPF-18: The amendments revised the Technical Specifications and License.

Date of initial notice in Federal Register: April 12, 2005 (70 FR 19115)

The August 16, August 24, September 13, and October 12, 2006 supplements contained clarifying information and did not change the NRC staff's initial proposed finding of no significant hazards consideration.

The Commission's related evaluation of the amendments is contained in a Safety Evaluation dated December 19, 2006.

No significant hazards consideration comments received: No.

Virginia Electric and Power Company, Docket Nos. 50-338 and 50-339, North Anna Power Station, Units 1 and 2, Louisa County, Virginia.

Date of application for amendment: May 30, 2006, as supplemented by letter dated June 30, 2006.

Brief description of amendment: The proposed amendments would relocate the American Society for Testing and Materials (ASTM) standard being used to test the total particulate concentration of the stored fuel oil to the Technical Specification (TS) Bases. This proposed change is described in TS Task Force (TSTF) Standard TS Change Traveler TSTF-374, Rev. 0, “Revision to TS 5.5.13 and Associated TS Bases for Diesel Fuel Oil.” In addition, the licensee has proposed to use a “water and sediment test” instead of the “clear and bright” test provided in TSTF-374.

Date of issuance: December 11, 2006.

Effective date: As of the date of issuance and shall be implemented within 30 days from the date of issuance.

Amendment Nos.: 249, 229.

Renewed Facility Operating License Nos. NPF-4 and NPF-7: Amendments change the licenses and the technical specifications.

Date of initial notice in Federal Register: August 15, 2006 (71 FR 46941)

The Commission's related evaluation of the amendments is contained in a Safety Evaluation dated December 11, 2006.

No significant hazards consideration comments received: No.

Dated at Rockville, Maryland, this 5th day of January 2007.
For The Nuclear Regulatory Commission.
John W. Lubinski,
Deputy Director, Division of Operating Reactor Licensing, Office of Nuclear Reactor Regulation.

[FR Doc. E7-321 Filed 1-12-07; 8:45 am]

BILLING CODE 7590-01-P